DEPARTMENT OF HOMELAND SECURITY

[Docket No. DHS-2020-0037]

Homeland Security Advisory Council; Meeting

AGENCY: Office of Partnership and Engagement (OPE), Department of Homeland Security (DHS).

ACTION: Notice of partially closed Federal Advisory Committee meeting.

SUMMARY: The Homeland Security Advisory Council (Council) will meet on Thursday, November 12, 2020. The meeting will be partially closed to the public and have both an open session and a closed session.

DATES: The meeting will take place from 1:00 p.m. to 4:00 p.m. EDT on Thursday, November 12, 2020. The meeting will be closed to the public from 1:00 p.m. to 2:00 p.m. EDT. The meeting will be open to the public from 2:05 p.m. to 4:00 p.m. EDT. Please note the meeting may end early if the Council has completed its business.

ADDRESSES: The HSAC meeting will be held via teleconference. Members of the public interested in participating may do so by following the process outlined below (see “Public Participation”). Written public comments prior to the meeting must be received by 5:00 p.m. EDT on Monday, November 9, 2020, and must be identified by Docket No. DHS-2020-0037. Written public comments after the meeting must be identified by Docket No. DHS-2020-0037 and may be submitted by one of the following methods:

• Federal eRulemaking Portal: http://www.regulations.gov. Follow the instructions for submitting comments.

• Email: HSAC@hq.dhs.gov. Include Docket No. DHS-2020-0037 in the subject line of the message.

• Fax: (202) 282-9207. Include Mike Miron and the Docket No. DHS-2020-0037 in the subject line of the message.

• Mail: Mike Miron, Acting Executive Director of Homeland Security Advisory Council, Office of Partnership and Engagement, Mailstop 0385, Department of Homeland Security, 2707 Martin Luther King Jr. Ave. SE, Washington, DC 20528.

Instructions: All submissions received must include the words “Department of Homeland Security” and “DHS-2020-0037,” the docket number for this action. Comments received will be posted without alteration at http://www.regulations.gov, including any personal information provided.

Docket: For access to the docket to read comments received by the Council, go to http://www.regulations.gov, search “DHS-2020-0037,” “Open Docket Folder” and provide your comments.

FOR FURTHER INFORMATION CONTACT: Mike Miron at HSAC@hq.dhs.gov or at (202) 447-3135.

SUPPLEMENTARY INFORMATION: Notice of this meeting is given under Section 10(a) of the Federal Advisory Committee Act (FACA), Public Law 92-463 (5 U.S.C. Appendix), which requires each FACA committee meeting to be open to the public.

The Council provides organizationally independent, strategic, timely, specific, actionable advice, and recommendations to the Secretary of Homeland Security on matters related to homeland security. The Council is comprised of leaders of local law enforcement, first responders, Federal, State, and Local governments, the private sector, and academia.

The Council will meet in an open session between 2:05 p.m. to 4:00 p.m. EDT. The Council will review, deliberate, and vote on the final draft reports of the Economic Security, Biometrics, Information and Communication Technology Risk Reduction subcommittees. The Council will also receive progress reports from the Youth Engagement and Academic Institutions subcommittees.

Participation: Members of the public will be in listen-only mode. The public may register to participate in this meeting via the following procedures. Each individual must provide his or her full legal name and email address no later than 5:00 p.m. EDT on Monday, November 9, 2020 to Mike Miron of the Council via email to HSAC@hq.dhs.gov or via phone at (202) 447-3135. Details on getting access for the conference call will be provided to interested members of the public after the closing of the public registration period and prior to the meeting. For information on services for individuals with disabilities, or to request special assistance, contact Mike Miron at HSAC@hq.dhs.gov or (202) 447-3135 as soon as possible.

The Council will meet in a closed session from 1:00 p.m. to 2:00 p.m. EDT to receive sensitive operational information from senior officials on intelligence, border security, transportation security, cybersecurity and infrastructure. Basis for Partial Closure: In accordance with Section 10(d) of FACA, the Acting Secretary of Homeland Security has determined this meeting requires partial closure. The disclosure of the information relayed would be detrimental to the public interest for the following reasons:

The Council will receive closed session briefings containing For Official Use Only and Law Enforcement sensitive information from senior officials. The session is closed under 5 U.S.C. 552b(c)(7)(E) because disclosure of that information could reveal investigative techniques and procedures not generally available to the public, allowing terrorists and those with interests against the United States to circumvent the law and thwart the Department's strategic initiatives.

Specifically, there will be material presented during the briefings regarding the latest viable threats against the United States and how DHS and other Federal agencies plan to address those threats. The session is closed pursuant to 5 U.S.C. 552b(c)(9)(B) because disclosure of these techniques and procedures could frustrate the successful implementation of protective measures designed to keep our country safe.

Michael J. Miron,
Acting Executive Director, Homeland Security Advisory Council, Department of Homeland Security.

[FR Doc. 2020-23163 Filed 10-19-20; 8:45 am]

BILLING CODE 9112-FN-P